DEPARTMENT OF COMMERCE

International Trade Administration

Mission Statement

AGENCY: Department of Commerce.

ACTION: Notice.

Mission Statement, Executive Trade Mission to Chile and Peru, June 1-5, 2009.

Mission Description

The United States Department of Commerce, International Trade Administration, U.S. and Foreign Commercial Service is organizing an Executive Trade Mission to Santiago, Chile, and Lima Peru, June 1-5, 2009, to be led by Walter Bastian, Deputy Assistant Secretary for the Western Hemisphere. The mission will focus on helping U.S. companies launch or increase their export business in these key South American markets. It will also help participating firms gain market information, make business and industry contacts, and solidify business strategies, towards the goal of increasing U.S. exports to these important Free Trade Agreement (FTA) partners. The mission will include business-to-business matchmaking appointments with local companies, as well as market briefings and networking events. The mission will be comprised of U.S. firms representing a cross section of U.S. industries with growing potential in the target markets, including, but not limited to the following sectors: construction, electric power generation, food processing and packaging, environmental protection, information technology, mining, oil and gas, safety and security, and telecommunications.

Commercial Setting

Chile

As the United States and Chile FTA continues into its fifth year, commercial trade, both in products and services, has been a resounding success. In 2008, bilateral trade between the United States and Chile reached US$20.3 billion, a 216% increase over bilateral trade levels before the U.S.-Chile FTA took effect. Even more impressively, U.S. exports to Chile in 2008 showed a 345% increase over pre-FTA levels.

Chile remains one of the most stable and prosperous developing nations, enjoying a reputation for political stability, economic freedom, and comparatively low poverty. Chile continues to pursue market-oriented strategies, expand global commercial ties, and actively participate in international issues and hemispheric free trade.

Chile offers a unique opportunity for U.S. exporters interested in expanding their businesses in one of the most open, stable and attractive markets in Latin America. Reflecting growing trade relations, Chile's ranking as a top U.S. export market rose to 25th in 2008, from 35th place in 2003.

Peru

Peru represents an expanding market for U.S. goods and services. In response to eased market access conditions, U.S. exports to Peru have doubled over four years, reaching an estimated US$6 billion in 2008. This trend should be reinforced as a result of the U.S. Peru Trade Promotion Agreement (referred to as the U.S.-Peru Free Trade Agreement, or FTA), which entered into force February 1, 2009, leveling the playing field for U.S. companies seeking access to the Peruvian market.

The FTA makes 80 percent of U.S. consumer and industrial products eligible for duty-free entry into Peru, with the remaining tariffs phased-out over ten years. It also specifies enhanced access to services markets and greater protection of intellectual property rights. The U.S. International Trade Commission estimates that the FTA will boost annual U.S. exports to Peru by US$1.1 billion.

Peru has achieved some of the highest economic growth rates in Latin America, averaging above five percent annually during the past seven years. The United States, Peru's leading trading partner, purchased 20 percent of Peru's exports and supplied 21 percent of the country's imports in 2008. Bilateral trade has tripled over the past decade, exceeding US$12 billion in 2008, with Peru the 40th largest export market for U.S. goods.

Mission Goals

This trade mission is designed to help U.S. firms initiate or expand their exports to Chile and Peru by providing business-to-business introductions and market access information.

Mission Scenario

The mission will stop in Santiago, Chile, and Lima Peru. In each city, participants will meet with pre-screened potential buyers, agents/distributors, and other business partners. They will also attend market briefings by U.S. Embassy officials, as well as networking events offering further opportunities to speak with local business and industry decision-makers.

Proposed Mission Timetable

Monday, June 1, 2009 | Santiago, Chile Market Briefing, Matchmaking Appointments, Networking Reception.
Tuesday, June 2, 2009 | Matchmaking Appointments.
Wednesday, June 3, 2009 | Travel to Peru.
Thursday, June 4, 2009 | Lima, Peru Market Briefing, Matchmaking Appointments, Networking Reception.
Friday, June 5, 2009 | Matchmaking Appointments.

Participation Requirements

All parties interested in participating in the Executive Trade Mission to Chile and Peru must complete and submit an application package for consideration by the Department of Commerce. All applicants will be evaluated on their ability to meet certain conditions and best satisfy the selection criteria as outlined below. A minimum of seven U.S. companies and maximum of 15 companies will be selected to participate in the mission from the applicant pool. U.S. companies already doing business with Chile and Peru as well as U.S. companies seeking to enter these countries for the first time may apply.

Fees and Expenses

After a company has been selected to participate on the mission, a payment to the Department of Commerce in the form of a participation fee is required. The participation fee will be $5,575 for large firms and $3,500 for a small or medium-sized enterprise (SME).* The fee for each additional firm representative (large firm or SME) is $450. Expenses for travel, lodging, most meals, and incidentals will be the responsibility of each mission participant. The same fee structure applies to representatives of U.S.-based firms stationed in Chile, Peru, or neighboring countries.

*An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria: Selection will be based on the following criteria, listed in decreasing order of importance:

• Suitability of the company's products or services for the Chilean and Peruvian markets

• Applicant's potential for business in Chile and Peru, including likelihood of exports resulting from the mission

• Consistency of the applicant's goals and objectives with the stated scope of the trade mission

Referrals from political organizations and any documents containing references to partisan political activities (including political contributions) will be removed from an applicant's submission and not considered during the selection process.

Timeframe for Recruitment and Applications

Mission recruitment will be conducted in an open and public manner. Outreach will include publication in the Federal Register, posting on the Commerce Department trade mission calendar (http://www.ita.doc.gov/doctm/tmcal.html) and other Internet Web sites, press releases to general and trade media, broadcast fax, notices by industry trade associations and other multiplier groups, and publicity at industry meetings, symposia, conferences, and trade shows.

The mission will open on a first come first served basis. Recruitment will begin immediately and close April 17, 2009. Applications received after April 17, 2009, will be considered only if space and scheduling constraints permit. Applications are available on-line on the mission Web site at http://www.export.gov/andeanmission. They can also be obtained by contacting the Mission Project Officers listed below.

Contacts

Louis Quay, Commercial Service Trade Missions Program, Tel: 202-482-3973, E-mail: Louis.Quay@mail.doc.gov.

Jessica Arnold, Commercial Service Trade Missions Program, Tel: 202-482-2026, E-mail: Jessica.Arnold@mail.doc.gov.

Sean Timmins,
Trade Specialist, Global Trade Programs, Commercial Service Trade Missions Program.

[FR Doc. E9-5531 Filed 3-12-09; 8:45 am]

BILLING CODE 3510-DS-P